DEPARTMENT OF HOMELAND SECURITY

U.S. Customs and Border Protection

Notice of Cancellation of Customs Brokers' Licenses

AGENCY: U.S. Customs and Border Protection, Department of Homeland Security.

ACTION: Customs brokers' license cancellations.

SUMMARY: This document provides notice of the cancellation of five (5) customs brokers' licenses without prejudice and the cancellation of one (1) customs broker's license with prejudice.

FOR FURTHER INFORMATION CONTACT: Everett Burns, International Trade Specialist, Broker Management Branch, Office of International Trade, (202) 863-6319.

SUPPLEMENTARY INFORMATION: This document provides notice that, pursuant to section 641 of the Tariff Act of 1930, as amended (19 U.S.C. 1641), and § 111.51(a) of title 19 of the Code of Federal Regulations (19 CFR 111.51(a)), the following customs brokers' licenses and any and all associated permits have been canceled without prejudice.

Last/company name | First name | License No. | Port of issuance
Jose Manuel Solis U.S. Customshouse Brokers, Inc. |  | 17280 | Laredo.
Jarvis International Freight, Inc. |  | 24029 | Houston.
SBS Worldwide, Inc. |  | 23616 | Chicago.
Solis | Jose | 11977 | Laredo.
Harlow | David | 05765 | Los Angeles.

This document also provides notice that, pursuant to section 641 of the Tariff Act of 1930, as amended (19 U.S.C. 1641), and section 111.51(b) of title 19 of the Code of Federal Regulations (19 CFR 111.51(b)), the following customs broker's license and any and all associated permits have been canceled with prejudice.

Company name | License No. | Port of issuance
Houston Becnel, Inc. | 13061 | Houston.

Dated: July 15, 2014.
Richard F. DiNucci,
Acting Assistant Commissioner, Office of International Trade.

[FR Doc. 2014-17027 Filed 7-18-14; 8:45 am]

BILLING CODE 9111-14-P